ENVIRONMENTAL PROTECTION AGENCY

(ER-FRL-6642-7)

Environmental Impact Statements; Notice of Availability

Responsible Agency: Office of Federal Activities, General Information (202) 564-7167 or http//www.epa.gov/compliance/nepa.

Weekly receipt of Environmental Impact Statements

Filed July 28, 2003 Through August 01, 2003

Pursuant to 40 CFR 1506.9.

EIS No. 030354, Draft EIS, FHW, MO, U.S. Route 40/61 Bridge Location Study Over the Missouri River, Improvement to Transportation System, Section 9 of the Rivers and Harbor Act Permit, and U.S. Army COE Section 10 and 404 Permits, Missouri River, St. Charles and St. Louis Counties, MO, Comment Period Ends: September 26, 2003, Contact: Donald Neumann (573) 636-7104.

EIS No. 030355, Draft EIS, COE, AK, King Cove Access Project, To Provide a Transportation System between the City of King Cove and the Cold Bay Airport, Aleutians East Borough (AEB), Section 10 and 404 Permits, Alaska Peninsula, AK, Comment Period Ends: September 22, 2003, Contact: Lloyd H. Fanter (907) 753-2712. This document is available on the Internet at: http://www.kingcoveaccesseis.com.

EIS No. 030356, Final EIS, FHW, PA, Central Susquehanna Valley Transportation Project, Improve Transportation, PA 0015 Section 088, Funding and COE Section 404 Permit, Snyder, Northumberland and Union Counties, PA, Wait Period Ends: September 10, 2003, Contact: James A. Cheatham (717) 221-3461.

EIS No. 030357, Final Supplement, AFS, UT,Long Deer Vegetation Management Project, South Spruce Ecosystem Rehabilitation Project, Implementation, Dixie National Forest, Cedar City Ranger District, Iron and Kane Counties, UT, Wait Period Ends: September 08, 2003, Contact: Ronald S. Wilson (435) 865-3200.

EIS No. 030358, Draft EIS, BLM, UT, Uinta Basin Natural Gas Project, Proposed to Produce and Transport Natural Gas in the Atchee Wash Oil and Gas Production Region, Resource Development Group, Right-of-Way Grant, U.S. Army COE Section 404 Permit and Endangered Species Act Permit, Uintah County, Utah, Comment Period Ends: September 22, 2003, Contact: Jean Nitschke Sinclear (435) 781-4400. This document is available on the Internet at: http://www.blm.gov/utah/vernal.

EIS No. 030359, Final EIS, COE, CA, Imperial Beach Shore Protection Project, Shore Protection and Prevention of Damage to Adjacent Beachfront Structures, Silver Strand Shoreline, City of Imperial Beach, San Diego County, CA, Wait Period Ends: September 8, 2003, Contact: Joy Jaiswal (213) 452-3851.

EIS No. 030360, Draft EIS, AFS, OR, Monument Fire Recovery Project and Proposed Non Significant Forest Plan Amendments, Implementing Four Alternatives for Recovery, Malheur National Forest, Prairie City Ranger District, Grant and Baker Counties, OR, Comment Period Ends: September 23, 2003, Contact: Ryan Falk (541) 820-3800. This document is available on the Internet at: http://www.fs.fed.us/R2/malheur/monument.

EIS No. 030361, Final EIS, AFS, ID, UT, OR, Boise National Forest, Payette National Forest and Sawtooth National Forest, Forest Plan Revision, Implementation, Southwest Idaho Ecogroup, several counties, ID, Malhaur County, OR and Box Elder County, UT, Wait Period Ends: September 8, 2003, Contact: Joey Pearson (208) 373-4145.

EIS No. 030362, Draft EIS, FRC, FL, Tractebel Calypso Pipeline Project, To Provide Natural Gas Transportation Service for 832,000 dekatherms/day (Dth/day) to South Florida, Endangered Species Act, Right-of-Way, U.S. Army COE Section 10 and 404 Permits and Exclusive Economic Zone (EEZ) with the Bahamas, Fort Lauderdale, Broward County, FL, Comment Period Ends: September 22, 2003, Contact: Thomas Russo (202) 502-8004. This document is available on the Internet at: http://www.ferc.gov.

EIS No. 030363, Final EIS, AFS, OR, Steamboat Mountain Mining Operations, Surface Quarry or “Open Pit” Mineral Extraction, Plan-of-Operation Approval, Appelgate Adaptive Management Area, Rogue River National Forest, Applegate Ranger District, Jackson County, OR, Wait Period Ends: September 8, 2003, Contact: Bengf Hamner (541) 858-2304.

EIS No. 030364, Final EIS, FTA, HI, Oahu Primary Corridor Transportation Project, Improvements from Kapolei in the west to the University of Hawaii-Manoa and Waikiki in the east, Major Investment Study, In the City and County of Honolulu, HI, Wait Period Ends: September 8, 2003, Contact: Donna Turchie (415) 744-2737.

Amended Notices

EIS No. 030196, Draft EIS, AFS, MN, Chippewa and Superior National Forests Land and Resource Management Plans Revision, Implementation, Beltrami, Cass, Itasca, Cook, Lake and St. Louis Counties, MN, Comment Period Ends: September 11, 2003, Contact: Duane Lula (218) 626-4300. Revision of FR Notice Published on 5/9/2003: CEQ Comment Period Ending 8/6/2003 has been Extended to 9/11/2003.

Dated: August 5, 2003.
B. Katherine Biggs,
Associate Director, NEPA Compliance Division, Office of Federal Activities.

[FR Doc. 03-20308 Filed 8-7-03; 8:45 am]

BILLING CODE 6560-50-U